ENVIRONMENTAL PROTECTION AGENCY

[FRL-9655-2]

Clean Water Act Section 303(d): Availability of List Decisions

AGENCY: Environmental Protection Agency.

ACTION: Notice of availability.

SUMMARY: This notice announces the availability of EPA's Responsiveness Summary Concerning EPA's November 30, 2011, Public Notice of Proposed Decisions to Add Waters and Pollutants to Louisiana's 2010 Section 303(d) List.

On November 30, 2011, the U.S. Environmental Protection Agency (EPA) published a notice in the Federal Register at Volume 76, Number 230, pages 74057-74058 providing the public the opportunity to review its decision to partially approve and proposal to partially disapprove Louisiana's 2010 Section 303(d) List. Specifically, EPA approved Louisiana's listing of 410 waterbody pollutant combinations, and associated priority rankings. EPA proposed to disapprove Louisiana's decisions not to list three waterbodies. These three waterbodies were added by EPA because the applicable numeric water quality standards marine criterion for dissolved oxygen was not attained in these segments.

Based on the Responsiveness Summary, EPA finds no new information or persuasive arguments as to why the three waters should not be added to the 2010 Louisiana Section 303(d) List as proposed. Therefore, EPA is taking Final Action on the addition of three waterbody pollutant combinations to the final Louisiana 2010 Section 303(d) List. The basis for these decisions is described in EPA's Responsiveness Summary and the Record of Decision.

ADDRESSES: Copies of EPA's Responsiveness Summary Concerning EPA's March 20, 2012 Public Notice of Final Decisions to Add Waters and Pollutants to Louisiana's 2010 Section 303(d) List can be obtained at EPA Region 6's Web site at http://www.epa.gov/region6/water/npdes/tmdl/index.htm#303dlists, or by writing or calling Ms. Diane Smith at Water Quality Protection Division, U.S. Environmental Protection Agency Region 6, 1445 Ross Ave., Dallas, TX 75202-2733, telephone (214) 665-2145, facsimile (214) 665-6490, or email: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7).

Consistent with EPA's regulations, Louisiana submitted to EPA its 2010 listing decisions under Section 303(d) on January 13, 2011. On November 30, 2011, EPA approved Louisiana's 2010 listing of 410 water body-pollutant combinations and associated priority rankings, and proposed to disapprove Louisiana's decisions not to list three waterbodies. On March 20, 2012, EPA finalized the action to disapprove Louisiana's 2010 listing decisions not to list three water quality limited segments. EPA identified these additional waters and pollutants along with priority rankings for inclusion on the 2010 Section 303(d) List.

Dated: March 20, 2012.
William K. Honker,
Acting Director, Water Quality Protection Division, Region 6.

[FR Doc. 2012-7952 Filed 4-2-12; 8:45 am]

BILLING CODE 6560-50-P